SMALL BUSINESS ADMINISTRATION

[Declaration of Disaster #3558]

State of West Virginia

As a result of the President's major disaster declaration on November 21, 2003, I find that Cabell, Kanawha, Lincoln, Nicholas, Putnam and Wayne Counties in the State of West Virginia constitute a disaster area due to damages caused by severe storms, flooding and landslides occurring on November 11, 2003, and continuing. Applications for loans for physical damage as a result of this disaster may be filed until the close of business on January 20, 2004 and for economic injury until the close of business on August 23, 2004 at the address listed below or other locally announced locations:

U.S. Small Business Administration, Disaster Area 1 Office, 360 Rainbow Blvd., South 3rd Fl., Niagara Falls, NY 14303-1192.

In addition, applications for economic injury loans from small businesses located in the following contiguous counties may be filed until the specified date at the above location: Boone, Braxton, Clay, Fayette, Greenbrier, Jackson, Logan, Mason, Mingo, Raleigh, Roane and Webster in the State of West Virginia; Boyd, Lawrence and Martin counties in the Commonwealth of Kentucky; and Gallia and Lawrence counties in the State of Ohio.

The interest rates are:

| Percent
For Physical Damage: |
Homeowners with credit available elsewhere | 6.250
Homeowners without credit available elsewhere | 3.125
Businesses with credit available elsewhere | 6.123
Businesses and non-profit organizations without credit available elsewhere | 3.061
Others (including non-profit organizations) with credit available elsewhere | 4.875
For Economic Injury:
Businesses and small agricultural cooperatives without credit available elsewhere | 3.061

The number assigned to this disaster for physical damage is 355811. For economic injury the number is 9Y0300 for West Virginia; 9Y0400 for Kentucky; and 9Y0500 for Ohio.

(Catalog of Federal Domestic Assistance Program Nos. 59002 and 59008)
Dated: November 24, 2003.
Herbert L. Mitchell,
Associate Administrator for Disaster Assistance.

[FR Doc. 03-29876 Filed 12-1-03; 8:45 am]

BILLING CODE 8025-01-U